DEPARTMENT OF ENERGY

Federal Energy Regulatory Commission

[Docket No. IC01-720-000; FERC-720]

Proposed Information Collection and Request for Comments

June 1, 2001.

AGENCY: Federal Energy Regulatory Commission.

ACTION: Request for Office of Management and Budget emergency processing of proposed information collection and request for comments.

SUMMARY: The Federal Energy Regulatory Commission (Commission) is providing notice of request to the Office of Management and Budget (OMB) for emergency processing of a proposed collection of information in connection with the New York electricity markets, and is soliciting public comment on that information collection.

DATES: Comments are requested on or before June 8, 2001.

ADDRESSES: Send comments: (1) Michael Miller, Officer of the Chief Information Officer, CI-1, Federal Energy Regulatory Commission, 888 First, NE, Washington, DC 20426. Mr. Miller may be reached by telephone at (202) 208-1415 and by e-mail at mike.miller@ferc.fed.us; and (2) Amy Farrell, FERC Desk Officer, Office of Information and Regulatory Affairs, Office of Management and Budget, Room 10202 NEOB, 725 17th Street NW, Washington, DC 20503. Ms. Farrell may be reached by telephone at (202) 395-7318 or by fax at (202) 395-7285.

FOR FURTHER INFORMATION CONTACT: Connie Caldwell, Office of the General Counsel, Federal Energy Regulatory Commission, (202) 208-2027.

SUPPLEMENTARY INFORMATION: The Federal Power Act directs the Commission to ensure just and reasonable rates for transmission and wholesale sales of electricity in interstate commerce. See 16 U.S.C. 824e(a). To enable the Commission to fulfill this duty the Federal Power Act also authorizes the Commission to conduct investigations of, and collect information from, public utilities. See 16 U.S.C. 825, 825c, 825f, and 825j.

Commission staff has reason to believe that the New York electricity market may experience prices at very high levels during the summer season. Several recent surveys and reports cite New York as an area likely to experience high electricity prices as we move into the summer. For example, a study published in May, 2001, by Xenergy entitled “Wholesale Market Structure,” found that “fundamental supply/demand factors * * * are the greatest contributor to high prices and other market problems” in New York. The North American Electric Reliability Council's “Summer Assessment for 2001” cites New York as an area that should be closely watched over the next few months. See http://www.nerc.com. In March, 2001, the NYISO issued a report titled, “Power Alert: New York's Energy Crossroads,” which reported the possibility of an impending electricity crisis in New York due to a growing imbalance in the supply and demand of electricity. This report may be found at http://www.nyiso.com. The Wall Street Journal has reported that “New York City already displays some of the early warning signs observed in California in the spring of 2000. The city's grid operator estimates that this summer demand could outstrip supply by as much as 9%, raising the specter of blackouts.” See Wall Street Journal, April 26, 2001.

If demand does in fact exceed supply this summer, forced and scheduled outages by electric generators in New York, particularly in the New York City and Long Island areas, may contribute to or be the sole cause of the high prices that are bound to accompany a supply/demand imbalance. In addition to causing higher prices, the outages limit the availability of electric power, and may lead to the necessity for blackouts to preserve transmission and distribution systems. If increased summer demand is not matched by generation supply in New York, these problems are likely to occur.

Commission staff believes that it is in the public interest to monitor generation outages in New York to assess their causes, particularly during the summer cooling season when electricity demand is at its highest. Commission staff proposes to do so by requesting that selected generators in the state of New York electronically provide to the Commission information on total or partial generation unit outages within 24 hours of their occurrence, whether scheduled, forced or otherwise.

Specifically, Commission staff will be requesting information only from generators that own, operate, or control in New York an individual generation unit with a generating capacity of 30 MW or more or generation units aggregating capacity of 50 MW or more.

For the purposes of this data collection, Commission staff considers an outage partial if it reduces the available output of a generation unit below its nameplate rated capacity or below the New York Independent System Operator's (NYISO's) Dependable Maximum Net Capability (DMNC) for the unit. The Commission staff will treat information provided by the generators as non-public pursuant to the provisions of 18 CFR 1b.9.

Commission staff will be requesting that the information be provided through a template that will be mailed to the generators and that can be accessed from the FERC website at http://www.ferc.gov/. The Commission staff is requesting that the generators send the outage information to an electronic address, ny.outages@ferc.fed.us. To further assist monitoring efforts, Commission staff will be requesting that generators provide the information on the template for all outages that are current as of the date they receive the letter containing the template. Although Commission staff will be requesting information from municipalities concerning their generation units in New York, Commission staff is requesting such data on a voluntary basis and is not questioning the jurisdictional status of those entities.

Because Commission staff is requesting information from a large number of generators (over 100) concerning future outages, the data collection is subject to the Paperwork Reduction Act, which requires OMB to review certain federal reporting requirements. 44 U.S.C. 3507. In light of the potential for critical events to occur in the New York electricity market caused by generation outages, particularly during the summer cooling season, Commission staff will be requesting emergency processing of this proposed information collection. If the Commission followed the regular provisions of the Paperwork Reduction Act, Commission staff would be unable to collect this information until most of the summer cooling season was over.

Commission staff estimates that between 100 and 110 generators could be subject to this reporting request, and that during any given week, only 15-25 of those entities would likely have an outage to report. However, many entities own several generation units, so the number of entities actually submitting reports would vary. Based on historical average outage rates, compiled by NERC for 1995 through 1999 (see http:www.nerc.com/~gads), of U.S. and Canadian generation facilities and the number of plants to be monitored, staff estimates that about 2,900 reports would be filed during the 180 days the reporting request would be in place.

Because Commission staff has created a pre-existing template, generators need not take any time to develop a reporting format. Commission's staff estimates that it would take each generator approximately one hour to fill out an initial report for a generation unit, but, as most of the unit information will remain constant (such as its name, fuel type and megawatt rating), it should take 20 minutes or less to fill out and send each subsequent report.

The outage reports are to be submitted electronically within 24 hours of when a total or partial unit outage begins and ends. As stated above, based on information compiled by the NERC, staff estimates that 2,900 reports may be filed under this information collection requirement. Assuming that number of reports are filed during the 180 days for which this information collection is requested, the total number of hours it would take to comply with the reporting requirement would be approximately 110 hours for initial submission and 930 hours for subsequent submissions, assuming 20 minutes per submission). Commission staff estimates a cost of $50 per hour for complying with the reporting requirement, based on salaries for professional and clerical staff, as well as direct and indirect overhead costs. Therefore, the total estimated cost of compliance would be $52,000.

Commission staff will submit this reporting requirement to OMB for approval. OMB's regulation describe the process that federal agencies must follow in order to obtain OMB approval of reporting requirements. See 5 CFR Part 1320. The standards for emergency processing of information collections appear at 5 CFR 1320.13. If OMB approves a reporting requirement, it will assign an information collection control number to that requirement. If a request for information subject to OMB review does not display a valid control number, or if the agency has not provided a justification as to why the control number cannot be displayed, then the recipient cannot be penalized for failing to respond.

OMB requires federal agencies seeking approval of reporting requirements to allow the public an opportunity to comment on the proposed reporting requirement. 5 CFR 1320.5(a)(1)(iv). Therefore, comments are being solicited on:

(1) Whether the collection of the information is necessary for the proper performance of the Commission's functions, including whether the information will have practical utility;

(2) The accuracy of Commission staff's estimate of the burden of the collection of this information, including the validity of the methodology and assumptions used;

(3) The quality, utility, and clarity of the information to be collected; and

(4) How to minimize the burden of the collection of this information on respondents, including the use of appropriate automated electronic, mechanical, or other forms of information technology.

David P. Boergers,
Secretary.

[FR Doc. 01-14351 Filed 6-6-01; 8:45 am]

BILLING CODE 6717-01-M